DEPARTMENT OF LABOR

Occupational Safety and Health Administration

[Docket No. OSHA-2015-0008]

OSHA Training Institute (OTI) Education Center Prerequisite Verification Form; Request Office of Management and Budget's (OMB) Approval of Information Collection (Paperwork) Requirements

AGENCY: Occupational Safety and Health Administration (OSHA), Labor.

ACTION: Request for public comments.

SUMMARY: OSHA solicits public comments concerning its proposal for completion of a Prerequisite Verification Form for applicants requesting enrollment in Outreach Training Program trainer courses to become an authorized Outreach Training Program trainer and the Office of Management and Budget's (OMB) approval of the information collection requirements specified in the Outreach Training Program Requirements (dated February 2013).

DATES: Comments must be submitted (postmarked, sent, or received) by July 20, 2015.

ADDRESSES: Electronically: You may submit comments and attachments electronically at http://www.regulations.gov, which is the Federal eRulemaking Portal. Follow the instructions online for submitting comments.

Facsimile: If your comments, including attachments, are not longer than 10 pages you may fax them to the OSHA Docket Office at (202) 693-1648.

Mail, hand delivery, express mail, messenger, or courier service: When using this method, you must submit your comments and attachments to the OSHA Docket Office, Docket No. OSHA-2015-0008, Occupational Safety and Health Administration, U.S. Department of Labor, Room N-2625, 200 Constitution Avenue NW., Washington, DC 20210. Deliveries (hand, express mail, messenger, and courier service) are accepted during the Department of Labor's and Docket Office's normal business hours, 8:15 a.m. to 4:45 p.m., E.T.

Instructions: All submissions must include the Agency name and the OSHA docket number (OSHA-2015-0008) for the Information Collection Request (ICR). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download from the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accord with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by the OSHA Training Institute's (OTI) Education Centers as necessary or appropriate to determine whether an applicant meets the prerequisite requirements for education and safety- related experience to become an authorized Outreach Training Program trainer.

The information collection requirements in the Outreach Training Program Requirements (dated February 2013) provide OTI Education Centers with the ability to determine the training and occupational safety and health experience of an applicant to become an authorized Outreach Training Program trainer to conduct the 10- and 30-hour Outreach Training Program classes for construction, general industry, and maritime, and the disaster site worker class.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on applicants who apply to become authorized Outreach Training Program trainers; for example, by using automated or other technological information collection and transmission techniques.

III. Proposed Actions

The Agency is requesting approval of the OTI Education Center Prerequisite Verification Form. The information collected in the Prerequisite Verification Form will be used by the OTI Education Centers to determine whether an applicant has met the prerequisite requirements of training and occupational safety and health-related experience to become an authorized Outreach Training Program trainer. Collecting this information prior to allowing an applicant to enroll in the Outreach Training Program trainer courses and become an authorized Outreach Training Program trainer ensures the validity of the Outreach Training Program and reduces the potential for individuals who are inexperienced in the occupational safety and health profession from conducting training through the Outreach Training Program. The Prerequisite Verification Form is provided to all applicants wishing to enroll in the Outreach Training Program trainer courses prior to their enrollment. Applicants are required to have five (5) years of occupational safety and health experience in the construction industry, general industry, or the maritime industry and to have completed the required OSHA standards course prior to their enrollment in the Outreach Training Program trainer course. Upon successful completion of the Outreach Training Program trainer course the applicant is authorized to conduct 10- and 30-hour Outreach Training Program classes in construction, general industry, or maritime, or disaster site worker classes and to provide students with Outreach Training Program class completion cards.

Type of Review: New.

Title: OSHA Training Institute (OTI) Education Center Prerequisite Verification Form.

OMB Control Number: 1218-0NEW.

Affected Public: Individuals.

Number of Respondents: 7,535 average per year.

Frequency of Response: Once.

Total Responses: 7,535 average per year.

Average Time per Response: Applicants—1 hour, OTI Education Centers—0.5 hour

Estimated Total Burden Hours: Applicants—7,535 hours per year, OTI Education Centers—3,772 hours per year, Total—11,307 hours per year.

Estimated Cost (Operation and Maintenance): Applicants—$250,162, OTI Education Centers—$109,962, Total: $360,124.

IV. Public Participation—Submission of Comments on this Notice and Internet Access to Comments and Submissions

You may submit comments in response to this document as follows: (1) Electronically at http://www.regulations.gov, which is the Federal eRulemaking Portal; (2) by facsimile; or (3) by hard copy. All comments, attachments, and other material must identify the Agency name and the OSHA docket number for this ICR (Docket No. OSHA-2015-0008). You may supplement electronic submissions by uploading document files electronically. If you wish to mail additional materials in reference to an electronic or facsimile submission, you must submit them to the OSHA Docket Office (see the section of this notice titled ADDRESSES). The additional materials must clearly identify your electronic comments by your name, date, and docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627).

Comments and submissions are posted without change at http://www.regulations.gov. Therefore, OSHA cautions commenters about submitting personal information such as their social security number and date of birth. Although all submissions are listed in the http://www.regulations.gov index, some information (e.g., copyrighted material) is not publicly available to read or download from this Web site. All submissions, including copyrighted material, are available for inspection and copying at the OSHA Docket Office. Information on using the http://www.regulations.gov Web site to submit comments and access the docket is available at the Web site's “User Tips” link. Contact the OSHA Docket Office for information about materials not available from the Web site, and for assistance in using the Internet to locate docket submissions.

V. Authority and Signature

David Michaels, Ph.D., MPH, Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on May 15, 2015.
David Michaels,
Assistant Secretary of Labor for Occupational Safety and Health.

[FR Doc. 2015-12244 Filed 5-19-15; 8:45 am]

BILLING CODE 4510-26-P